DEPARTMENT OF TRANSPORTATION

Federal Aviation Administration

14 CFR Part 39

[Docket No. FAA-2010-1160; Directorate Identifier 2010-NM-148-AD]

RIN 2120-AA64

Airworthiness Directives; the Boeing Company Airplanes

AGENCY: Federal Aviation Administration (FAA), DOT.

ACTION: Supplemental notice of proposed rulemaking (NPRM); reopening of comment period.

SUMMARY: We are revising an earlier proposed airworthiness directive (AD) to supersede an existing AD for all The Boeing Company Model 767 airplanes. The existing AD currently requires repetitive inspections to detect discrepancies of the wiring and surrounding Teflon sleeves of the fuel tank boost pumps and override/jettison pumps; replacement of the sleeves with new sleeves, for certain airplanes; and repair or replacement of the wiring and sleeves with new parts, as necessary. The previous NPRM proposed to reduce the initial compliance time and repetitive inspection interval in the existing AD. The previous NPRM was prompted by fleet information indicating that the repetitive inspection interval in the existing AD is too long because excessive chafing of the sleeving continues to occur much earlier than expected between scheduled inspections. This action revises the previous NPRM by proposing a terminating action for the repetitive inspections, to eliminate wire damage. This action also removes certain airplanes from the applicability of the previous NPRM. We are proposing this supplemental NPRM to detect and correct chafing of the fuel pump wire insulation and consequent exposure of the electrical conductor, which could result in electrical arcing between the wires and conduit and consequent fire or explosion of the fuel tank.

Since these actions impose an additional burden over that proposed in the previous NPRM, we are reopening the comment period to allow the public the chance to comment on these proposed changes.

DATES: We must receive comments on this supplemental NPRM by August 16, 2012.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this proposed AD, contact Boeing Commercial Airplanes, Attention: Data & Services Management, P. O. Box 3707, MC 2H-65, Seattle, Washington 98124-2207; telephone 206-544-5000, extension 1; fax 206-766-5680; Internet https://www.myboeingfleet.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Rebel Nichols, Aerospace Engineer, Propulsion Branch, ANM-140S, FAA, Seattle Aircraft Certification Office, 1601 Lind Avenue SW., Renton, Washington 98057-3356; phone: 425-917-6509; fax: 425-917-6590; email: rebel.nichols@faa.gov.

SUPPLEMENTARY INFORMATION:

Comments Invited

We invite you to send any written relevant data, views, or arguments about this proposed AD. Send your comments to an address listed under the ADDRESSES section. Include “Docket No. FAA-2010-1160; Directorate Identifier 2010-NM-148-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We issued an NPRM to amend 14 CFR part 39 to supersede AD 2000-11-06, Amendment 39-11754 (65 FR 34928, June 1, 2000; corrected August 1, 2000 (65 FR 46862)), that would apply to all Model 767-200, -300, -300F, and -400ER series airplanes. That NPRM published in the Federal Register on December 14, 2010 (75 FR 77790). The existing AD currently requires repetitive inspections to detect discrepancies of the wiring and surrounding Teflon sleeves of the fuel tank boost pumps and override/jettison pumps; replacement of the sleeves with new sleeves, for certain airplanes; and repair or replacement of the wiring and sleeves with new parts, as necessary. That NPRM proposed to reduce the initial compliance time and repetitive inspection interval in the existing AD.

Actions Since Previous NPRM (75 FR 77790, December 14, 2010) Was Issued

Since we issued the previous NPRM (75 FR 77790, December 14, 2010), the manufacturer has issued Boeing Alert Service Bulletin 767-28A0104, Revision 1, dated March 2, 2012, to replace the fuel boost pump and override/jettison pump wire bundles inside the in-tank conduits with new wire bundles. The new wire bundles have liners which hold the fuel pump power wires away from the sides of the metal conduit, to eliminate chafing. Boeing Alert Service Bulletin 767-28A0104, Revision 1, dated March 2, 2012, also removes certain airplanes from the effectivity.

Comments

We gave the public the opportunity to comment on the previous NPRM (75 FR 77790, December 14, 2010). The following presents the comments received on the previous NPRM and the FAA's response to each comment.

Request To Delay Issuance of the Previous NPRM (75 FR 77790, December 14, 2010)

Continental Airlines (CAL) asked that we delay issuance of the previous NPRM (75 FR 77790, December 14, 2010) until Boeing Alert Service Bulletin 767-28A0104, dated January 25, 2011, is revised to include a change to the airplane fuel boost pump and override jettison pump wiring. CAL stated that it was informed that the revised bulletin was currently in the approval process. CAL noted that, in accordance with Boeing Alert Service Bulletin 767-28A0104, dated January 25, 2011, paragraph (e) of the previous NPRM provides the information regarding the unsafe condition and reduction of repetitive inspection intervals. CAL also stated that, although these repetitive inspection intervals may detect and correct chafing of the fuel pump wire insulation and consequent exposure of the electrical conductor, which could result in an unsafe condition, the following issues are created by the service information referenced in the previous NPRM:

• Does not provide requirements of system design changes to permanently eliminate the unsafe condition.

• Does impose operational and logistical difficulties to operator with the scheduling of the short repetitive inspection intervals.

• Does impose additional economic burden to operator with the repetitive maintenance inspection requirements in lieu of one-time low cost terminating action.

We do not agree to delay issuing the supplemental NPRM because the proposed actions are required to address the unsafe condition. However, we do agree that the revised service information should be included in this supplemental NPRM. As explained previously, Boeing has issued Alert Service Bulletin 767-28A0104, Revision 1, dated March 2, 2012. That service bulletin includes procedures for a wiring change to the fuel boost pump and override/jettison pump. We reviewed that service bulletin and have included it in a new terminating action specified in paragraph (l) of this supplemental NPRM.

Requests To Clarify Applicability

Boeing asked that we revise the applicability identified in the previous NPRM (75 FR 77790, December 14, 2010) to include specific airplane effectivities. Boeing stated that production-certified changes implemented at line number 990 and on constituted terminating action against inspection requirements of the Teflon sleeves around the wiring. Boeing noted that the service information referenced in the previous NPRM is being revised to limit the airplane effectivity up to and including line number 989. CAL stated that, in the Boeing 767 Airplane Maintenance Manual there are two fuel pump wire installation configurations for the Model 767 fleet. CAL added that the previous NPRM does not provide a specific clarification as to which airplane configuration the regulatory requirements apply, other than the effectivity of Boeing Alert Service Bulletin 767-28A0053, Revision 2, dated June 24, 2010.

We agree that the applicability (all Model 767-200, -300, -300F, and -400ER series airplanes) specified in the previous NPRM (75 FR 77790, December 14, 2010) should be clarified, and have determined that not all airplanes are affected. Boeing has issued Service Bulletin 767-28A0053, Revision 3, dated November 11, 2011. Boeing Service Bulletin 767-28A0053, Revision 1, dated August 5, 1999; and Boeing Alert Service Bulletin 767-28A0053, Revision 2, dated June 24, 2010; were referred to as the sources of service information for accomplishing certain actions in the previous NPRM. Revision 3 of Boeing Service Bulletin 767-28A0053, dated November 11, 2011, specifies no more work is necessary on airplanes changed in accordance with Boeing Service Bulletin 767-28A0053, Revision 1, dated August 5, 1999; or Boeing Alert Service Bulletin 767-28A0053, Revision 2, dated June 24, 2010. Boeing Service Bulletin 767-28A0053, Revision 3, dated November 11, 2011, clarifies the effectivity and certain procedures in the Accomplishment Instructions, and removes the optional fuel pump check. We have added Boeing Service Bulletin 767-28A0053, Revision 3, dated November 11, 2011, as a source of service information for accomplishing the required actions in this supplemental NPRM. We have also changed the applicability in this supplemental NPRM from “all” to “as identified in Boeing Service Bulletin 767-28A0053, Revision 3, dated November 11, 2011.”

Requests To Include Information Notice

United Airlines (UAL) asked that we include Boeing Service Bulletin Information Notice 767-28A0053 IN05, dated August 12, 2010, in the previous NPRM (75 FR 77790, December 14, 2010). UAL stated that this information notice informs operators that Boeing Alert Service Bulletin 767-28A0053, Revision 2, dated June 24, 2010, will be revised to provide optional connector part numbers and delete the optional fuel pump check. UAL noted that this would allow operators to use the information notice without the need to request an alternative method of compliance (AMOC). All Nippon Airways also asked that we allow the use of optional connectors.

As noted above, Boeing has issued Service Bulletin 767-28A0053, Revision 3, dated November 11, 2011. Boeing Service Bulletin 767-28A0053, Revision 3, dated November 11, 2011, incorporates the changes in Boeing Service Bulletin Information Notice 767-28A0053 IN05, dated August 12, 2010, into the Accomplishment Instructions. Therefore, no change to this supplemental NPRM is necessary in this regard.

Request To Include Terminating Action

UAL asked that terminating action for the repetitive inspections be added to the previous NPRM (75 FR 77790, December 14, 2010). UAL noted that Boeing may be developing a solution that would terminate the inspections proposed by the previous NPRM.

As noted above, Boeing has issued Alert Service Bulletin 767-28A0104, Revision 1, dated March 2, 2012. Boeing Alert Service Bulletin 767-28A0104, Revision 1, dated March 2, 2012, adds replacement of the fuel boost pump and override/jettison pump wire bundles with new wire bundles; which eliminates the need for the repetitive inspections. We have added a new paragraph (l) to this supplemental NPRM to include that terminating action.

Requests To Clarify Certain Requirement

American Airlines (AAL) asked for clarification on the following items:

• Paragraph (g) of the previous NPRM (75 FR 77790, December 14, 2010) used the word “splice” in the examples of discrepancies; however, AAL noted that the referenced service bulletin does not use the word “splice” and it is not aware of any practical methods to splice Teflon. AAL did not ask for a change.

• Paragraphs (h) and (i) of the previous NPRM (75 FR 77790, December 14, 2010) refer to paragraph D. of the Accomplishment Instructions of Boeing Alert Service Bulletin 767-28A0053, Revision 2, dated June 24, 2010. This reference is correct in Boeing Service Bulletin 767-28A0053, Revision 1, dated August 5, 1999, but is incorrect in Boeing Alert Service Bulletin 767-28A0053, Revision 2, dated June 24, 2010, because the numbering scheme in the revised service information has changed.

• Paragraph (i)(2)(ii) of the previous NPRM (75 FR 77790, December 14, 2010) refers to “paragraph (a) of this AD.” However, this reference should be changed to paragraph (g) of this AD because the numbering scheme of the previous NPRM has changed from that specified in the existing AD.

• Paragraph (j) of the previous NPRM (75 FR 77790, December 14, 2010) refers to paragraphs G., H., I., or J. of Boeing Service Bulletin 767-28A0053, Revision 1, dated August 5, 1999, but omits references to Boeing Alert Service Bulletin 767-28A0053, Revision 2, dated June 24, 2010.

We agree with the commenter's concerns and offer the following clarifications:

• We have removed the word “splices” from paragraph (g) of this supplemental NPRM for clarity.

• We have removed the specific reference to “paragraph D.” of the Accomplishment Instructions from paragraphs (h) and (i) of this supplemental NPRM for clarity.

• We have changed the reference to paragraph (a) in paragraph (i)(2)(ii) of the previous NPRM (75 FR 77790, December 14, 2010) to paragraph (g) in this supplemental NPRM to refer to the correct paragraph identifier.

• We have removed the reference to paragraphs G., H., I., or J. in paragraph (j) of this supplemental NPRM, since there are three versions of the service bulletin. We have included references to Boeing Alert Service Bulletin 767-28A0053, Revision 2, dated June 24, 2010; and Boeing Service Bulletin 767-28A0053, Revision 3, dated November 11, 2011; in paragraph (j) of this supplemental NPRM.

UAL also asked that paragraphs (h) and (i) of the previous NPRM (75 FR 77790, December 14, 2010) be revised for clarification. UAL stated that those paragraphs refer to paragraph D. of the Accomplishment Instructions of Boeing Alert Service Bulletin 767-28A0053, Revision 2, dated June 24, 2010, and there is no paragraph D. in Revision 2 of that service bulletin. UAL asked that we change those paragraphs for clarification. In addition, UAL asked that we refer to Boeing Alert Service Bulletin 767-28A0053, Revision 2, dated June 24, 2010; or Revision 3, dated November 11, 2011; in paragraph (j) of the previous NPRM.

As noted above, we agree and have removed the specific reference to “paragraph D.” of the Accomplishment Instructions of Boeing Alert Service Bulletin 767-28A0053, Revision 2, dated June 24, 2010, from paragraphs (h) and (i) of this supplemental NPRM. We also revised paragraph (j) of this supplemental NPRM to refer to Boeing Alert Service Bulletin 767-28A0053, Revision 2, dated June 24, 2010; or Revision 3, dated November 11, 2011.

Request To Remove Reporting Requirement

AAL asked that the reporting requirement in paragraph (k) of the previous NPRM (75 FR 77790, December 14, 2010) be removed. AAL stated that paragraph (k) of the previous NPRM contains the following language, “Submit a report of positive inspection findings (findings of discrepancies only), along with any damaged wiring and sleeves, to the Seattle Manufacturing Inspection District Office (MIDO) * * *” AAL noted that this statement is identical to paragraph (e) of the existing AD, and added that any additional damaged wiring and sleeving reports sent to the FAA in Seattle would not have an appreciable benefit in finding a solution to the chafing problem. AAL asked that this paragraph be removed, or if not removed, extended due to the nature of the inspections and the ability to report any damaged wiring and sleeving within the 10-day compliance time.

We agree with the commenter because the benefit of reporting after so many years is minimal. The data necessary for determining a permanent fix for the wiring has been compiled, and there is a terminating modification for the wiring specified in paragraph (l) of this supplemental NPRM. Therefore, we have removed paragraph (k) of the previous NPRM (75 FR 77790, December 14, 2010), and the related paperwork reduction act language in paragraph (m) of the previous NPRM, and reidentified subsequent paragraphs in this supplemental NPRM accordingly.

Request To Restate Incorporation by Reference and Special Flight Permit Paragraphs

AAL noted the absence of the Special Flight Permits and Incorporation by Reference paragraphs, in paragraphs (g) and (h) of the existing AD, and asked that those paragraphs be restated in the previous NPRM (75 FR 77790, December 14, 2010).

We acknowledge the commenter's concerns. However, the Special Flight Permits paragraph specified in the existing AD has now been removed from all ADs because that information is contained in sections 21.197 and 21.199 of the Federal Aviation Regulations (14 CFR 21.197 and 21.199). The Incorporation by Reference section of an AD is only included in final rules to incorporate the required service information. Therefore, those paragraphs are not restated in this supplemental NPRM.

Request To Include Alternative Methods of Compliance

CAL and UAL asked that Boeing Service Bulletins 767-28A0079 and 767-28A0080, which have been approved by the Seattle Aircraft Certification Office (ACO) as an AMOC to AD 2000-11-06, Amendment 39-11754 (65 FR 34928, June 1, 2000; corrected August 1, 2000 (65 FR 46862)), be approved as an AMOC for the corresponding requirements in the previous NPRM (75 FR 77790, December 14, 2010).

All Nippon Airways noted that its AMOC, Letter 140S-10-385, dated October 21, 2010, is also approved by the Seattle ACO as an AMOC to AD 2000-11-06, Amendment 39-11754 (65 FR 34928, June 1, 2000; corrected August 1, 2000 (65 FR 46862)). We infer that All Nippon Airways is asking that the letter be approved as an AMOC for the corresponding requirements in the previous NPRM (75 FR 77790, December 14, 2010).

We agree with the commenters' requests. Paragraph (n)(3) of this supplemental NPRM includes previously approved AMOCs to AD 2000-11-06, Amendment 39-11754 (65 FR 34928, June 1, 2000; corrected August 1, 2000 (65 FR 46862)), as AMOCs with the corresponding requirements of this supplemental NPRM. The terminating action and reduced inspection intervals in this supplemental NPRM have no corresponding action in AD 2000-11-06. Therefore, no change to the supplemental NPRM is necessary in this regard.

Request To Change Compliance Time

UAL asked that the compliance time for certain inspections specified in the previous NPRM (75 FR 77790, December 14, 2010) be changed. UAL stated that paragraph (l)(1) of the previous NPRM requires inspecting within 15,000 flight hours after the most recent inspection or within 6,000 flight hours after the effective date of the AD, whichever occurs later, but not to exceed 60,000 flight hours after the most recent inspection required by paragraph (g) of the previous NPRM. UAL suggested that the compliance time be changed to within 60,000 flight hours or 30,000 flight cycles after the effective date of the AD, whichever occurs first.

We do not agree with the commenter. In developing an appropriate compliance time for the inspections, we considered not only the degree of urgency associated with addressing the subject unsafe condition, but the manufacturer's recommendation for an appropriate compliance time, and the practical aspect of accomplishing the required inspections within a period of time that corresponds to the normal scheduled maintenance for most affected operators. However, under the provisions of paragraph (n) of this supplemental NPRM, we will consider requests for approval of a change to the compliance time if sufficient data are submitted to substantiate that the new compliance time would provide an acceptable level of safety. No change to this supplemental NPRM is necessary in this regard.

Request To Increase Work-Hours in Costs of Compliance

UAL asked that we increase the number of work-hours specified in the previous NPRM (75 FR 77790, December 14, 2010) for the actions done on airplanes with and without jettison pumps. UAL stated that Boeing Alert Service Bulletin 767-28A0053, Revision 2, dated June 24, 2010, specifies 6.5 work-hours to do the actions for airplanes with jettison pumps, and 5.25 work-hours to do the actions for airplanes without jettison pumps.

We agree with the commenter for the reasons provided. We have increased the number of work-hours for those airplanes in the Costs of Compliance section of this supplemental NPRM accordingly.

Changes to Supplemental NPRM

We have added a new paragraph (m) to this supplemental NPRM to provide credit for actions performed before the effective date of the AD using Boeing Service Bulletin 767-28A0104, dated January 25, 2011.

We have removed Note 1 of the previous NPRM (75 FR 77790, December 14, 2010).

We have revised certain headings throughout this supplemental NPRM.

FAA's Determination

We are proposing this supplemental NPRM because we evaluated all the relevant information and determined the unsafe condition described previously is likely to exist or develop in other products of the same type design. Certain changes described above expand the scope of the previous NPRM (75 FR 77790, December 14, 2010). As a result, we have determined that it is necessary to reopen the comment period to provide additional opportunity for the public to comment on this supplemental NPRM.

Proposed Requirements of the Supplemental NPRM

This supplemental NPRM would require accomplishing the actions specified in the service information described previously.

Costs of Compliance

We estimate that this proposed AD affects 414 airplanes of U.S. registry.

We estimate the following costs to comply with this proposed AD:

Estimated Costs
Action | Labor cost | Parts cost | Cost per product | Cost on U.S. operators
Actions for airplanes with jettison pumps, required by AD 2000-11-06, Amendment 39-11754 (65 FR 34928, June 1, 2000; corrected August 1, 2000 (65 FR 46862)) | 7 work-hours × $85 per hour = $595 per inspection cycle | None | $595 per inspection cycle | Up to $246,330 per inspection cycle.
Actions for airplanes without jettison pumps, required by AD 2000-11-06, Amendment 39-11754 (65 FR 34928, June 1, 2000; corrected August 1, 2000 (65 FR 46862)) | 5 work-hours × $85 per hour = $425 per inspection cycle | None | $425 per inspection cycle | Up to $175,950 per inspection cycle.
New proposed action: Replace existing wire bundles with new wire bundles | 33 work hours × $85 per hour = $2,805 | $6,061 | $8,866 | $3,670,524

We estimate the following costs to do any necessary repairs that would be required based on the results of the inspections. We have no way of determining the number of aircraft that might need these repairs:

On-Condition Costs
Action | Labor cost | Parts cost | Cost per product
Replace wire bundle sleeves if damage found during inspections | 1 work hour × $85 per hour = $85 | $1,452 | $1,537

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2000-11-06, Amendment 39-11754 (65 FR 34928, June 1, 2000; corrected August 1, 2000 (65 FR 46862)), and adding the following new AD:

The Boeing Company: Docket No. FAA-2010-1160; Directorate Identifier 2010-NM-148-AD.

(a) Comments Due Date

We must receive comments by August 16, 2012.

(b) Affected ADs

This AD supersedes AD 2000-11-06, Amendment 39-11754 (65 FR 34928, June 1, 2000; corrected August 1, 2000 (65 FR 46862)).

(c) Applicability

This AD applies to The Boeing Company Model 767-200, -300, -300F, and -400ER series airplanes; certificated in any category; as identified in Boeing Service Bulletin 767-28A0053, Revision 3, dated November 11, 2011.

(d) Subject

Air Transport Association (ATA) of America Code 28: Fuel.

(e) Unsafe Condition

This AD was prompted by fleet information indicating that the repetitive inspection interval in the existing AD is too long because excessive chafing of the sleeving continues to occur much earlier than expected between scheduled inspections. We are issuing this AD to detect and correct chafing of the fuel pump wire insulation and consequent exposure of the electrical conductor, which could result in electrical arcing between the wires and conduit and consequent fire or explosion of the fuel tank.

(f) Compliance

You are responsible for having the actions required by this AD performed within the compliance times specified, unless the actions have already been done.

(g) Retained Repetitive Inspections

This paragraph restates the requirements of paragraph (a) of AD 2000-11-06, Amendment 39-11754 (65 FR 34928, June 1, 2000; corrected August 1, 2000 (65 FR 46862)), with revised service information. Perform a detailed visual inspection to detect discrepancies—including the presence of cuts, splits, holes, worn areas, and lacing ties installed on the outside of the sleeves (except at the sleeve ends)—of the Teflon sleeves surrounding the wiring of the fuel tank boost pumps and override/jettison pumps, at the earlier of the times specified in paragraphs (g)(1) and (g)(2) of this AD, in accordance with Boeing Service Bulletin 767-28A0053, Revision 1, dated August 5, 1999; Boeing Alert Service Bulletin 767-28A0053, Revision 2, dated June 24, 2010; or Boeing Service Bulletin 767-28A0053, Revision 3, dated November 11, 2011. Repeat the inspection thereafter at intervals not to exceed 60,000 flight hours or 30,000 flight cycles, whichever occurs first. As of the effective date of this AD, only Boeing Alert Service Bulletin 767-28A0053, Revision 3, dated November 11, 2011, may be used to do the actions required by this paragraph.

(1) Prior to the accumulation of 50,000 total flight hours, or within 90 days after July 6, 2000 (the effective date of AD 2000-11-06, Amendment 39-11754 (65 FR 34928, June 1, 2000; corrected August 1, 2000 (65 FR 46862)), whichever occurs later.

(2) Within 18 months after July 6, 2000 (the effective date of AD 2000-11-06, Amendment 39-11754 (65 FR 34928, June 1, 2000; corrected August 1, 2000 (65 FR 46862)).

(h) Retained Corrective Actions

This paragraph restates the requirements of paragraph (b) of AD 2000-11-06, Amendment 39-11754 (65 FR 34928, June 1, 2000; corrected August 1, 2000 (65 FR 46862)), with revised service information. If any discrepancy is detected during any inspection required by paragraph (g) of this AD: Prior to further flight, remove the Teflon sleeves and perform a detailed visual inspection to detect damage of the wiring, in accordance with the Accomplishment Instructions of Boeing Service Bulletin 767-28A0053, Revision 1, dated August 5, 1999; Boeing Alert Service Bulletin 767-28A0053, Revision 2, dated June 24, 2010; or Boeing Service Bulletin 767-28A0053, Revision 3, dated November 11, 2011. As of the effective date of this AD, only Boeing Alert Service Bulletin 767-28A0053, Revision 3, dated November 11, 2011, may be used to do the actions required by this AD.

(1) If no damage to the wiring is detected, prior to further flight, install new Teflon sleeves, in accordance with the Accomplishment Instructions of Boeing Service Bulletin 767-28A0053, Revision 1, dated August 5, 1999; Boeing Alert Service Bulletin 767-28A0053, Revision 2, dated June 24, 2010; or Boeing Service Bulletin 767-28A0053, Revision 3, dated November 11, 2011. As of the effective date of this AD, only Boeing Alert Service Bulletin 767-28A0053, Revision 3, dated November 11, 2011, may be used to do the actions required by this AD.

(2) If any damage to the wiring is detected, prior to further flight, accomplish the requirements of paragraph (i) of this AD.

(i) Retained Corrective Actions

This paragraph restates the requirements of paragraph (c) of AD 2000-11-06, Amendment 39-11754 (65 FR 34928, June 1, 2000; corrected August 1, 2000 (65 FR 46862)), with revised service information. If any damage to the wiring is detected during any inspection required by paragraph (h) of this AD: Prior to further flight, perform a detailed visual inspection to determine if the wiring damage was caused by arcing, in accordance with the Accomplishment Instructions of Boeing Service Bulletin 767-28A0053, Revision 1, dated August 5, 1999; Boeing Alert Service Bulletin 767-28A0053, Revision 2, dated June 24, 2010; or Boeing Service Bulletin 767-28A0053, Revision 3, dated November 11, 2011. As of the effective date of this AD, only Boeing Alert Service Bulletin 767-28A0053, Revision 3, dated November 11, 2011, may be used to do the actions required by this AD.

(1) If the wire damage was not caused by arcing: Prior to further flight, repair any damaged wires or replace the wires with new or serviceable wires, as applicable, and install new Teflon sleeves, in accordance with the Accomplishment Instructions of Boeing Service Bulletin 767-28A0053, Revision 1, dated August 5, 1999; Boeing Alert Service Bulletin 767-28A0053, Revision 2, dated June 24, 2010; or Boeing Service Bulletin 767-28A0053, Revision 3, dated November 11, 2011. As of the effective date of this AD, only Boeing Alert Service Bulletin 767-28A0053, Revision 3, dated November 11, 2011, may be used to do the actions required by this AD.

(2) If any damage caused by arcing is found: Prior to further flight, perform an inspection for signs of fuel inside the conduit or on the wires, in accordance with the Accomplishment Instructions of Boeing Service Bulletin 767-28A0053, Revision 1, dated August 5, 1999; Boeing Alert Service Bulletin 767-28A0053, Revision 2, dated June 24, 2010; or Boeing Service Bulletin 767-28A0053, Revision 3, dated November 11, 2011. As of the effective date of this AD, only Boeing Alert Service Bulletin 767-28A0053, Revision 3, dated November 11, 2011, may be used to do the actions required by this AD.

(i) If no sign of fuel is found, accomplish the actions specified by paragraphs (i)(2)(i)(A), (i)(2)(i)(B), (i)(2)(i)(C), and (i)(2)(i)(D) of this AD.

(A) Prior to further flight, repair the wires or replace the wires with new or serviceable wires, as applicable, in accordance with the Accomplishment Instructions of Boeing Service Bulletin 767-28A0053, Revision 1, dated August 5, 1999; Boeing Alert Service Bulletin 767-28A0053, Revision 2, dated June 24, 2010; or Boeing Service Bulletin 767-28A0053, Revision 3, dated November 11, 2011. As of the effective date of this AD, only Boeing Alert Service Bulletin 767-28A0053, Revision 3, dated November 11, 2011, may be used to do the actions required by this AD.

(B) Prior to further flight, install new Teflon sleeves, in accordance with the Accomplishment Instructions of Boeing Service Bulletin 767-28A0053, Revision 1, dated August 5, 1999; Boeing Alert Service Bulletin 767-28A0053, Revision 2, dated June 24, 2010; or Boeing Service Bulletin 767-28A0053, Revision 3, dated November 11, 2011. As of the effective date of this AD, only Boeing Alert Service Bulletin 767-28A0053, Revision 3, dated November 11, 2011, may be used to do the actions required by this AD.

(C) Repeat the inspection for signs of fuel inside the conduit thereafter at intervals not to exceed 500 flight hours, until the requirements of paragraph (h)(2)(i)(D) of this AD have been accomplished. If any fuel is found inside the conduit during any inspection required by this paragraph, prior to further flight, replace the conduit with a new or serviceable conduit in accordance with the Accomplishment Instructions of Boeing Service Bulletin 767-28A0053, Revision 1, dated August 5, 1999; Boeing Alert Service Bulletin 767-28A0053, Revision 2, dated June 24, 2010; or Boeing Service Bulletin 767-28A0053, Revision 3, dated November 11, 2011. Thereafter, repeat the inspection specified in paragraph (g) of this AD at intervals not to exceed 60,000 flight hours or 30,000 flight cycles, whichever occurs first. As of the effective date of this AD, only Boeing Alert Service Bulletin 767-28A0053, Revision 3, dated November 11, 2011, may be used to do the actions required by this AD.

(D) Within 6,000 flight hours or 18 months after the initial fuel inspection specified by paragraph (h)(2) of this AD, whichever occurs first, replace the conduit with a new or serviceable conduit, in accordance with the Accomplishment Instructions of Boeing Service Bulletin 767-28A0053, Revision 1, dated August 5, 1999; Boeing Alert Service Bulletin 767-28A0053, Revision 2, dated June 24, 2010; or Boeing Service Bulletin 767-28A0053, Revision 3, dated November 11, 2011. Such conduit replacement constitutes terminating action for the repetitive fuel inspections required by paragraph (i)(2)(i)(C) of this AD. As of the effective date of this AD, only Boeing Alert Service Bulletin 767-28A0053, Revision 3, dated November 11, 2011, may be used to do the actions required by this AD.

(ii) If any fuel is found in the conduit or on any wire: Prior to further flight, replace the conduit with a new or serviceable conduit, replace damaged wires with new or serviceable wires, and install new Teflon sleeves; in accordance with the Accomplishment Instructions of Boeing Service Bulletin 767-28A0053, Revision 1, dated August 5, 1999; Boeing Alert Service Bulletin 767-28A0053, Revision 2, dated June 24, 2010; or Boeing Service Bulletin 767-28A0053, Revision 3, dated November 11, 2011. Thereafter, repeat the inspection specified in paragraph (g) of this AD at intervals not to exceed 60,000 flight hours or 30,000 flight cycles, whichever occurs first. As of the effective date of this AD, only Boeing Alert Service Bulletin 767-28A0053, Revision 3, dated November 11, 2011, may be used to do the actions required by this AD.

(j) Retained Pump Retest

This paragraph restates the requirements of paragraph (d) of AD 2000-11-06, Amendment 39-11754 (65 FR 34928, June 1, 2000; corrected August 1, 2000 (65 FR 46862)), with revised service information. For any wire bundle removed and reinstalled during any inspection required by this AD: Prior to further flight after such reinstallation, retest the fuel pump in accordance with the Accomplishment Instructions of Boeing Service Bulletin 767-28A0053, Revision 1, dated August 5, 1999; Boeing Alert Service Bulletin 767-28A0053, Revision 2, dated June 24, 2010; or Boeing Service Bulletin 767-28A0053, Revision 3, dated November 11, 2011. As of the effective date of this AD, only Boeing Alert Service Bulletin 767-28A0053, Revision 3, dated November 11, 2011, may be used to do the actions required by this AD.

(k) New Repetitive Inspections With Reduced Inspection Intervals

Do the inspection required by paragraph (g) of this AD at the time specified in paragraph (l)(1) or (l)(2) of this AD, as applicable, in accordance with the Accomplishment Instructions of Boeing Alert Service Bulletin 767-28A0053, Revision 3, dated November 11, 2011. Repeat the inspection thereafter at intervals not to exceed 15,000 flight hours. Accomplishing the first inspection in this paragraph ends the repetitive inspection requirements in paragraph (g) of this AD.

(1) For airplanes on which the inspection required by paragraph (g) of this AD has been done as of the effective date of this AD: Do the inspection within 15,000 flight hours after the most recent inspection or within 6,000 flight hours after the effective date of this AD, whichever occurs later; but not to exceed 60,000 flight hours after the most recent inspection required by paragraph (g) of this AD.

(2) For airplanes on which the inspection required by paragraph (g) of this AD has not been done as of the effective date of this AD: Do the inspection before the accumulation of 15,000 total flight hours or within 6,000 flight hours after the effective date of this AD, whichever occurs later.

(l) New Terminating Action

Within 60 months after the effective date of this AD: Replace the fuel boost pump and override/jettison pump wire bundles inside the in-tank electrical conduit with new wire bundles, in accordance with the Accomplishment Instructions of Boeing Alert Service Bulletin 767-28A0104, Revision 1, dated March 2, 2012. Accomplishing the replacement specified in this paragraph ends the repetitive inspection requirements in paragraph (k) of this AD.

(m) Credit for Previous Actions

This paragraph provides credit for the actions required by paragraph (l) of this AD, if those actions were performed before the effective date of this AD using Boeing Alert Service Bulletin 767-28A0104, dated January 25, 2011.

(n) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(3) AMOCs approved previously in accordance with AD 2000-11-06, Amendment 39-11754 (65 FR 34928, June 1, 2000; corrected August 1, 2000 (65 FR 46862)), are approved as AMOCs with the corresponding requirements of this AD. Compliance time extensions approved previously in accordance with AD 2000-11-06 are not approved as AMOCs for the compliance times required by paragraph (k) of this AD.

(o) Related Information

(1) For more information about this AD, contact Rebel Nichols, Aerospace Engineer, Propulsion Branch, ANM-140S, FAA, Seattle Aircraft Certification Office, 1601 Lind Avenue SW., Renton, Washington 98057-3356; phone: 425-917-6509; fax: 425-917-6590; email: rebel.nichols@faa.gov.

(2) For service information identified in this AD, contact Boeing Commercial Airplanes, Attention: Data & Services Management, P. O. Box 3707, MC 2H-65, Seattle, Washington 98124-2207; telephone 206-544-5000, extension 1; fax 206-766-5680; Internet https://www.myboeingfleet.com.

(3) You may review copies of the referenced service information at the FAA, Transport Airplane Directorate, 1601 Lind Avenue SW., Renton, Washington. For information on the availability of this material at the FAA, call 425-227-1221.

Issued in Renton, Washington, on June 22, 2012.
Jeffrey Duven,
Acting Manager, Transport Airplane Directorate, Aircraft Certification Service.

[FR Doc. 2012-16099 Filed 6-29-12; 8:45 am]

BILLING CODE 4910-13-P